FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 5, 2017.

A. Federal Reserve Bank of Chicago (Colette A. Fried, Assistant Vice President) 230 South LaSalle Street, Chicago, Illinois 60690-1414:

1. Aaron T. Boyken, individually, and together as a group acting in concert with the Allan J. Boyken Revocable Bank Stock Trust, with Allan J. Boyken as trustee; the F. Joy Boyken 2010 Trust, with Allan J. Boyken as trustee; and the F. Joy Boyken Revocable Bank Stock Trust, with F. Joy Boyken as trustee, all of Titonka, Iowa; to acquire voting shares of Titonka Bancshares, Inc. and thereby acquire shares of Titonka Savings Bank, both of Titonka, Iowa.

B. Federal Reserve Bank of Minneapolis (Brendan S. Murrin, Assistant Vice President) 90 Hennepin Avenue, Minneapolis, Minnesota 55480-0291:

1. Brian Solsrud, North Oaks, Minnesota; to acquire shares of Flathead Lake Bancorporation, Inc., Polson, Montana, and thereby indirectly control First Citizens Bank of Polson, National Association, Polson, Montana.

Board of Governors of the Federal Reserve System, August 15, 2017.
Yao-Chin Chao,
Assistant Secretary of the Board.

[FR Doc. 2017-17506 Filed 8-17-17; 8:45 am]

BILLING CODE 6210-01-P